DEPARTMENT OF THE INTERIOR

National Park Service

Jackson Hole Airport Use Agreement Extension, Draft Environmental Impact Statement, Grand Teton National Park, WY

AGENCY: National Park Service, Department of the Interior.

ACTION: Notice of Availability of the Draft Environmental Impact Statement for the Jackson Hole Airport Use Agreement Extension, Grand Teton National Park.

SUMMARY: Pursuant to the National Environmental Policy Act of 1969, 42 U.S.C. 4332(2)(C), the National Park Service announces the availability of a Draft Environmental Impact Statement for the Jackson Hole Airport Use Agreement Extension for Grand Teton National Park, Wyoming. This effort addresses a request from the Jackson Hole Airport Board to amend the use agreement between the Department of the Interior and the Airport Board in order to ensure that the airport remains eligible for funding through the Federal Aviation Administration (FAA). The proposal would allow the agreement to be amended to provide two additional 10-year options that could be exercised by the Board, the first in 2013 and the second in 2023. By exercising these options, the Board would ensure that the airport remains eligible for Airport Improvement Program grants from the FAA, upon which commercial airports are dependent. These grants provide funds for projects such as maintenance of the runway and taxiways, purchase of capital equipment such as snowplows and fire engines, and other projects necessary for the airport to retain its certification as a commercial airport. Without such funds, the airport would at some point be unable to retain its certification and all commercial air service would be terminated.

Alternatives considered in the EIS include Alternative 1: No Action—The airport would continue operations under the existing agreement which currently has an expiration date of April 27, 2033; and Alternative 2: Extend Agreement—Jackson Hole Airport Board proposal to extend the agreement for an additional two 10-year terms, bringing the expiration date to April 27, 2053. Alternative 2 is the Preferred Alternative.

The Jackson Hole Airport is located on 533 acres of land within Grand Teton National Park. The airport operates under the terms and conditions of a 1983 agreement between the Department of the Interior and the Jackson Hole Airport Board. The 1983 agreement was for a primary term of 30 years, with options for two 10-year extensions, both of which have been exercised. The agreement also includes a provision that further extensions, amendments, or modifications could be negotiated by the parties on mutually satisfactory terms, and that the parties agree that upon expiration of the agreement, a mutually satisfactory extension could be negotiated.

In November 2006, a scoping notice soliciting public comments was circulated describing the purpose and need for the project. Based on comments received and subsequent data gathered, the National Park Service determined the preparation of an EIS was warranted and a Draft EIS was prepared. The Notice of Intent to prepare an EIS was published in the Federal Register on August 9, 2007.

DATES: The National Park Service will accept comments on the Draft Environmental Impact Statement from the public for 60 days after the date the Environmental Protection Agency publishes a Notice of Availability. No public meetings are scheduled at this time.

ADDRESSES: Information will be available for public review and comment online at http://parkplanning.nps.gov/GRTE, in the office of the Superintendent, Mary Gibson Scott, Grand Teton National Park, PO Drawer 170, Moose, Wyoming 83012-0170, (307) 739-3411 and at the Teton County Public Library, Jackson, Wyoming.

FOR FURTHER INFORMATION CONTACT: Gary Pollock, Grand Teton National Park, PO Drawer 170, Moose, Wyoming 83012-0170, (307) 739-3428.

SUPPLEMENTARY INFORMATION: If you wish to comment, you may submit your comments by any one of several methods. You may mail comments to the office of the Superintendent, Grand Teton National Park, PO Drawer 170, Moose, Wyoming 83012-0170. You may also comment via the Internet at http://parkplanning.nps.gov/GRTE. Finally, you may hand-deliver comments to the office of the Superintendent, Grand Teton National Park, Administrative Offices Building, Moose, Wyoming 83012-0170. Before including your address, phone number, e-mail address, or other personal identifying information in your comment, you should be aware that your entire comment—including your personal identifying information—may be made publicly available at any time. While you can ask us in your comment to withhold your personal identifying information from public review, we cannot guarantee that we will be able to do so.

Dated: January 26, 2009.
John T. Crowley,
Acting Regional Director, Intermountain Region, National Park Service.

[FR Doc. E9-7483 Filed 4-2-09; 8:45 am]

BILLING CODE 4312-CX-P